DEPARTMENT OF THE INTERIOR

National Park Service

[NPS-WASO-NAGPRA-NPS0028707; PPWOCRADN0-PCU00RP14.R50000]

Notice of Inventory Completion: Department of Anthropology, University of Alaska Anchorage, Anchorage, AK

AGENCY: National Park Service, Interior.

ACTION: Notice.

SUMMARY: The Department of Anthropology, University of Alaska Anchorage has completed an inventory of human remains and associated funerary object, in consultation with the appropriate Indian Tribes or Native Hawaiian organizations, and has determined that there is a cultural affiliation between the human remains and associated funerary object and present-day Indian Tribes or Native Hawaiian organizations. Lineal descendants or representatives of any Indian Tribe or Native Hawaiian organization not identified in this notice that wish to request transfer of control of these human remains and associated funerary object should submit a written request to the Department of Anthropology, University of Alaska Anchorage. If no additional requestors come forward, transfer of control of the human remains and associated funerary object to the lineal descendants, Indian Tribes, or Native Hawaiian organizations stated in this notice may proceed.

DATES: Lineal descendants or representatives of any Indian Tribe or Native Hawaiian organization not identified in this notice that wish to request transfer of control of these human remains and associated funerary object should submit a written request with information in support of the request to the Department of Anthropology, University of Alaska Anchorage at the address in this notice by October 3, 2019.

ADDRESSES: Dr. John Stalvey, Interim Provost, University of Alaska Anchorage, 3211 Providence Drive, Anchorage, AK 99508, telephone (907) 786-1050, email Jstalvey@alaska.edu.

SUPPLEMENTARY INFORMATION: Notice is here given in accordance with the Native American Graves Protection and Repatriation Act (NAGPRA), 25 U.S.C. 3003, of the completion of an inventory of human remains and associated funerary object under the control of the Department of Anthropology, University of Alaska Anchorage, Anchorage, AK. The human remains and associated funerary object were removed from Point Hope, North Slope Borough, AK.

This notice is published as part of the National Park Service's administrative responsibilities under NAGPRA, 25 U.S.C. 3003(d)(3). The determinations in this notice are the sole responsibility of the museum, institution, or Federal agency that has control of the Alaska Native human remains. The National Park Service is not responsible for the determinations in this notice.

Consultation

A detailed assessment of the human remains was made by the Department of Anthropology, University of Alaska Anchorage professional staff in consultation with representatives of the Native Village of Point Hope.

History and Description of the Remains

In 1972, human remains representing, at minimum, one individual were removed from Point Hope in the North Slope Borough, AK. The human remains, consisting of nine bones, were collected from the surface of the ground near the airstrip in Point Hope, AK. No known individuals were identified. The one associated funerary object is a caribou metapodial (caribou lower leg bone).

Point Hope, or Tikigaq, has been occupied for at least 2000 years, recent dates extend the occupation even earlier. This spit of land includes the sites of Tikigaq, Ipiutak, and Jabbertown, and the modern town of Point Hope. Because the ground is frozen much of the year, and the spit is a gravel bar, the dead were placed on the ground surface. Human elements frequently appear on the surface in the old town of Tikigaq, at the end of the airport runway. Oral tradition and archeological evidence identify the human remains as Inupiat.

The Inupiat are descendants of the original people of Point Hope (Tikiġaq), and still live there today. They are represented by the present-day Native Village of Point Hope.

Determinations Made by the Department of Anthropology, University of Alaska Anchorage

Officials of the Department of Anthropology, University of Alaska Anchorage have determined that:

• Pursuant to 25 U.S.C. 3001(9), the human remains described in this notice represent the physical remains of one individual of Alaska Native ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Alaska Native human remains and associated funerary objects and the Native Village of Point Hope.

Additional Requestors and Disposition

Lineal descendants or representatives of any Indian Tribe or Native Hawaiian organization not identified in this notice that wish to request transfer of control of these human remains and associated funerary object, should submit a written request with information in support of the request to Dr. John Stalvey, Interim Provost, University of Alaska Anchorage, 3211 Providence Drive, Anchorage, AK 99508, telephone (907) 786-1050, email Jstalvey@alaska.edu, by October 3, 2019. After that date, if no additional requestors have come forward, transfer of control of the human remains and associated funerary object to the Native Village of Point Hope may proceed.

The Department of Anthropology, University of Alaska Anchorage is responsible for notifying the Native Village of Point Hope that this notice has been published.

Dated: August 13, 2019.
Melanie O'Brien,
Manager, National NAGPRA Program.

[FR Doc. 2019-18855 Filed 8-30-19; 8:45 am]

BILLING CODE 4312-52-P